DEPARTMENT OF ENERGY

Notice of Inventions Available for License

AGENCY: Department of Energy.

ACTION: Notice of inventions available for license.

SUMMARY: The Department of Energy hereby announces that the following invention is available for license, in accordance with 35 U.S.C. 207-209: PCT/US10/26189, entitled “Ground Potential Rise Monitor.”

FOR FURTHER INFORMATION CONTACT: Annette R. Reimers, Office of the Assistant General Counsel for Technology Transfer and Intellectual Property, U.S. Department of Energy, Forrestal Building, Room 6F-067, 1000 Independence Ave., SW., Washington, DC 20585; Telephone (202) 586-3815.

SUPPLEMENTARY INFORMATION: 35 U.S.C. 207 authorizes licensing of government owned inventions. Implementing regulations are contained in 37 CFR part 404.

Issued in Washington, DC, on April 7, 2010.
Paul A. Gottlieb,
Assistant General Counsel for Technology, Transfer and Intellectual Property.

[FR Doc. 2010-8388 Filed 4-12-10; 8:45 am]

BILLING CODE 6450-01-P